FEDERAL COMMUNICATIONS COMMISSION

Notice of Public Information Collection(s) Being Reviewed by the Federal Communications Commission

March 16, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 26, 2000. If you anticipate that you will be submitting comments, but find it difficult to do so within the period of time allowed by this notice, you should advise the contact listed below as soon as possible.

ADDRESSES: Direct all comments to Judy Boley, Federal Communications Commission, Room 1-C804, 445 12th Street, SW, Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0750.

Title: Section 73.673, Public Information Initiatives Regarding Educational and Informational Programming for Children.

Form No.: N/A.

Type of Review: Extension of a currently approved collection.

Respondents: Individuals or households, and business or other for-profit.

Number of Respondents: 1,225.

Estimated Time Per Response: 1 minute per program and 5 minutes per program to publishers of program guides.

Frequency of Response: Third party disclosure requirement.

Total Annual Burden: 38,219 hours.

Total Annual Cost: N/A.

Needs and Uses: Section 73.673 requires commercial TV broadcasters to identify programs specifically designed to educate and inform children at the beginning of those programs and to provide information identifying such programs and the age groups for which they are intended to publishers of program guides.

These requirements provide better information to the public about the shows broadcasters air to fulfill their obligation to air educational and informational programming under the Children's Television Act (CTA) of 1990. This information will assist parents who wish to guide their children's television viewing. In addition, if large numbers of parents use that information to choose educational programming for their children, it will increase the likelihood that the market will respond with more educational programming. Better information should help parents and others to have an effective dialogue with broadcasters in their community about children's programming and, where appropriate, to urge programming improvements without resorting to government intervention.

The next television renewal cycle will commence on June 1, 2004. As part of the license renewal applications submission, each commercial television licensee will report on its compliance with the Commission's children's television programming and commercial advertisement regulations during the preceding eight-year license term.

Federal Communications Commission.
Magalie Roman Salas,
Secretary.

[FR Doc. 00-7427 Filed 3-24-00; 8:45 am]

BILLING CODE 6712-01-U